EQUAL EMPLOYMENT OPPORTUNITY COMMISSION

Sunshine Act Notice Meeting

Agency Holding The Meeting: Equal Employment Opportunity Commission.

Federal Register Citation of Previous Announcement: 74 FR 58626, Friday, November 13, 2009.

Previously Announced Time and Date of Meeting: Wednesday, November 18, 2009, 2 p.m. (Eastern Time).

Change in the Meeting: The meeting has been cancelled.

FOR FURTHER INFORMATION CONTACT: Stephen Llewellyn, Executive Officer on (202) 663-4070.

This Notice Issued November 17, 2009.
Stephen Llewellyn,
Executive Officer, Executive Secretariat .

[FR Doc. E9-28030 Filed 11-18-09; 4:15 pm]

BILLING CODE 6570-01-P